DEPARTMENT OF VETERANS AFFAIRS

[OMB Control No. 2900-NEW]

Agency Information Collection Activity Under OMB Review: Environmental Hazards Registry (EHR) Worksheet (VA Form 10-10176)

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden, and it includes the actual data collection instrument.

DATES: Comments must be submitted on or before December 26, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-NEW” in any correspondence.

FOR FURTHER INFORMATION CONTACT: Danny S. Green, Office of Quality, Performance and Risk (OQPR), Department of Veterans Affairs, 810 Vermont Avenue NW, Washington, DC 20420, (202) 421-1354 or email danny.green2@va.gov. Please refer to “OMB Control No. 2900-NEW” in any correspondence.

SUPPLEMENTARY INFORMATION:

Authority: 44 U.S.C. 3501-21.

Title: Environmental Hazards Registry (EHR) Worksheet (VA Form 10-10176).

OMB Control Number: 2900-NEW.

Type of Review: New collection.

Abstract: Legal authority for this data collection is found under the following Congressional mandates that authorize the collection of data that will allow measurement and evaluation of the Department of Veterans Affairs Programs, the goal of which is improved health care for Veterans.

• Agent Orange Registry: Public Laws 102-4, 102-585 Section 703, 100-687 and 38 United States Code (U.S.C.) 527, 38 U.S.C. 1116.

• Gulf War Registry: Public Laws 102-585, 103-446 and 38 U.S.C. 1117.

• Ionizing Radiation: Public Laws 102-585 Section 703, 100-687 and 38 U.S.C. 527, 38 U.S.C. 1116.

The new Environmental Health Registry (EHR) Worksheet, VA Form 10-10176, supersedes VA Form 10-9009 (June 2005), VA Form 10-9009A (March 2010) and VA Form 10-0020A (June 2005). Post Deployment Health Services (PDHS) plans to have this form electronically accessible to Environmental Health Coordinators and Clinicians once the EHR is in place. Until then, PDHS requests to consolidate 3 existing forms into one comprehensive form.

Currently, VA is exploring the performance of limited registry examinations via telemedicine, in order to reduce Veterans' need to travel and potentially reduce waiting times for exams. The form information would be the same, and otherwise the process to collect and put data into the registry database will not change. Once the exam template is available, it can be used to import information more seamlessly into the Veteran patient record.

VA Environmental Health Registry evaluations are free, voluntary medical assessments for Veterans who may have been exposed to certain environmental hazards during military service. Evaluations alert Veterans to possible long-term health problems that may be related to exposure specific to environmental hazards during their military service. The registry data may help VA understand and respond to these health problems more effectively and may be useful for research purposes.

An agency may not conduct or sponsor, and a person is not required to respond to, a collection of information unless it displays a currently valid OMB control number. The Federal Register Notice with a 60-day comment period soliciting comments on this collection of information was published at 84 FR 42993 on August 19, 2019, page 42993.

Affected Public: Individuals or Households.

Estimated Annual Burden: 20,000.

Estimated Average Burden per Respondent: 60 minutes.

Frequency of Response: Once annually.

Estimated Number of Respondents: 20,000.

By direction of the Secretary.
Danny S. Green,
Interim VA Clearance Officer, Office of Quality, Performance and Risk (OQPR), Department of Veterans Affairs.

[FR Doc. 2019-25676 Filed 11-25-19; 8:45 am]

BILLING CODE 8320-01-P